DEPARTMENT OF HOMELAND SECURITY

Federal Emergency Management Agency

[Docket ID: FEMA-2021-0014; OMB No. 1660-0070]

Agency Information Collection Activities: Submission for OMB Review; Comment Request; National Fire Department Registry

AGENCY: Federal Emergency Management Agency, Department of Homeland Security.

ACTION: 30-Day notice of revision and request for comments.

SUMMARY: The Federal Emergency Management Agency (FEMA), as part of its continuing effort to reduce paperwork and respondent burden, invites the general public to take this opportunity to comment on a revision of a currently approved collection. In accordance with the Paperwork Reduction Act of 1995, this notice seeks comments concerning the National Fire Department Registry and the collection of information related to fire departments such as addresses, total number of departments, number of stations per department, and number of firefighters. The U.S. Fire Administration (USFA) maintains the registry for the purpose of disseminating fire safety and prevention information to fire departments across the country.

DATES: Comments must be submitted on or before September 1, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, email address FEMA-Information-Collections-Management@fema.dhs.gov or Gayle Kelch, Statistician, FEMA, United States Fire Administration, National Fire Data Center at (301) 447-1154 or email gayle.kelch@fema.dhs.gov.

SUPPLEMENTARY INFORMATION: This proposed information collection previously published in the Federal Register on April 27, 2021, at 86 FR 22235 with a 60-day public comment period. No comments were received. The purpose of this notice is to notify the public that FEMA will submit the information collection abstracted below to the Office of Management and Budget for review and clearance.

Collection of Information

Title: National Fire Department Registry.

Type of Information Collection: Revision of a currently approved information collection.

OMB Number: 1660-0070.

FEMA Forms: FEMA Form FF-USFA-FY-21-100—Paper Version (formerly FEMA Form 070-0-0-1); FEMA Form FF-USFA-FY-21-110—Online Version (formerly the screenshots of FEMA Form 070-0-0-1).

Abstract: This collection seeks to identify fire departments in the United States to compile a database related to their demographics, capabilities, and activities. The database is used to guide programmatic decisions and provide information to the public and the fire service.

Affected Public: State, local or tribal government.

Estimated Number of Respondents: 6,370.

Estimated Number of Responses: 6,370.

Estimated Total Annual Burden Hours: 1,293.

Estimated Total Annual Respondent Cost: $9,961.

Estimated Respondents' Operation and Maintenance Costs: $0.

Estimated Respondents' Capital and Start-Up Costs: $0.

Estimated Total Annual Cost to the Federal Government: $55,573.

Comments

Comments may be submitted as indicated in the ADDRESSES caption above.

Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-16400 Filed 7-30-21; 8:45 am]

BILLING CODE 9111-76-P